DEPARTMENT OF COMMERCE

International Trade Administration

[A-201-809]

Notice of Amended Final Results of Antidumping Duty Administrative Review: Certain Cut-to-Length Carbon Steel Plate From Mexico

AGENCY: Import Administration, International Trade Administration, Department of Commerce.

EFFECTIVE DATE: November 2, 2000.

FOR FURTHER INFORMATION CONTACT: Thomas Killiam or Robert James, Enforcement Group III, Office 8, Import Administration, International Trade Administration, U.S. Department of Commerce, 14th Street and Constitution Avenue, NW, Washington, DC 20230; telephone (202) 482-5222 or 482-0649, respectively.

Applicable Statute: Unless otherwise indicated, all citations to the Tariff Act of 1930, as amended (the Act) are references to the provisions effective January 1, 1995, the effective date of the amendments made to the Act by the Uruguay Round Agreements Act (URAA). In addition, unless otherwise indicated, all citations to the Department's regulations are to the regulations, codified at 19 CFR part 351 (1999).

Amended Final Results

The Department of Commerce (the Department) is amending the final results of the administrative review of the antidumping duty order on certain cut-to-length (CTL) carbon steel plate from Mexico in accordance with section 751(h) of the Act and 19 CFR 351.224 of the Department's regulations. These amended final results change the antidumping duty rates.

On February 9, 2000, the Department issued the final results of review for the period August 1, 1997 through July 31, 1998. See Notice of Final Results of Antidumping Duty Administrative Review, 65 FR 8338 (February 18, 2000).

On March 9, 2000, the petitioners ¹ and the respondent ² submitted allegations of ministerial errors. We agreed with all of AHMSA's allegations concerning clerical errors, and we agreed with all of petitioners' allegations except one; we disagreed that our omission of the arm's-length test was a clerical error.

¹ Petitioners are Bethlehem Steel Corporation, Geneva Steel, Gulf Lakes Steel, Inc. of Alabama, Inland Steel Industries, Inc., Lukens Steel Company, Sharon Steel Corporation, and U.S. Steel Group (a unit of USX Corporation).

² Respondent is Altos Hornos de Mexico S.A. de C.V. (AHMSA).

The allegations are addressed in the Issues and Decision Memorandum from Joseph A. Spetrini, Deputy Assistant Secretary, Import Administration, to Troy H. Cribb, Acting Assistant Secretary for Import Administration, dated October 19, 2000, on file in room B-099 of the main Commerce building. The Issues and Decisions Memorandum is hereby adopted by this notice; it can be accessed directly on the World Wide Web at http://ia.ita.doc.gov.

As a result of our analysis of the parties' allegations, we are amending our final results of review to revise the antidumping rate for AHMSA in accordance with 19 CFR 351.224(e), as shown below.

Manufacturer/exporter | Weighted average margin, percentage
AHMSA | 21.75

Accordingly, the Department will determine, and the Customs Service will assess, antidumping duties on all entries of subject merchandise from AHMSA in accordance with these amended final results. The Department will issue appraisement instructions directly to Customs.

This administrative review and notice are in accordance with sections 751(a)(1) and 777(i)(1) of the Act and 19 CFR 351.224.

Dated: October 19, 2000.
Troy H. Cribb,
Acting Assistant Secretary for Import Administration.

[FR Doc. 00-28192 Filed 11-1-00; 8:45 am]

BILLING CODE 3510-DS-P